DEPARTMENT OF STATE

[Public Notice: 7588]

30-Day Notice of Proposed Information Collection: DS-7001 and DS-7005, DOS-Sponsored Academic Exchange Program Application, OMB Control Number 1405-0138

ACTION: Notice of request for public comment and submission to OMB of proposed collection of information.

SUMMARY: The Department of State has submitted the following information collection request to the Office of Management and Budget (OMB) for approval in accordance with the Paperwork Reduction Act of 1995.

• Title of Information Collection: DOS-Sponsored Academic Exchange Program Application.

• OMB Control Number: 1405-0138.

• Type of Request: Extension of a Currently Approved Collection.

• Originating Office: Bureau of Educational and Cultural Affairs, ECA/A/E/EUR.

• Form Number: DS-7001, DS-7005.

• Respondents: Applicants for the Academic Exchange Program.

• Estimated Number of Respondents: 7160 (For DS-7001, 3842 estimated; for DS-7005, 3318 estimated).

• Estimated Number of Responses: 7160 (For DS-7001, 3842 estimated; for DS-7005, 3318 estimated).

• Average Hours per Response: 0.75.

• Total Estimated Burden: 5370 hours.

• Frequency: Annually.

Obligation to Respond: Voluntary.

DATES: Submit comments to the Office of Management and Budget (OMB) for up to 30 days from September 19, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Micaela S. Iovine, U.S. Department of State, Bureau of Educational and Cultural Affairs, Floor 4, 2200 C St., NW., Washington, DC 20522-0504, who may be reached on 202-632-3256 or at iovinems@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Department of State collects this information to identify qualified candidates from Eurasia and South Central Asia for exchange activities sponsored by the Office of Academic Exchange Programs.

Methodology

Applications are delivered physically to the foreign country offices of the grantee organization, submitted electronically, or through the mail.

Additional Information: None.

Dated: September 1, 2011.
Marianne Craven,
Acting Deputy Assistant Secretary, Bureau of Educational and Cultural Affairs, Department of State.

[FR Doc. 2011-23888 Filed 9-16-11; 8:45 am]

BILLING CODE 4710-05-P